DEPARTMENT OF ENERGY

Federal Energy Regulatory Commission

[Project No. 3011-000]

Natco Products Corporation; Notice of Withdrawal of Existing Licensee's Notice of Intent To File a Subsequent License Application, and Soliciting Pre-Application Documents and Notices of Intent To File a Subsequent License Application

On December 29, 2017, Natco Products Corporation (Natco or licensee) filed a Notice of Intent (NOI) to file an application for a subsequent license for its Artic Project No. 3011 (project), pursuant to section 16.19 of the Commission's regulations.¹ On February 13, 2018, Commission staff issued a public notice of the NOI and approved the use of the traditional licensing process to develop the license application. The existing license for the project expires on December 31, 2022.²

¹ 18 CFR 16.19(b) (2019). At least five years before the expiration of a license for a minor water power project, the licensee must file with the Commission an NOI that contains an unequivocal statement of the licensee's intention to file or not to file an application for a subsequent license.

² The license for the project was issued with an effective date of January 1, 1983, for a term of 40 years. Artic Development Corporation, 22 FERC 62,097 (1983).

On September 12, 2019, Natco filed a letter notifying the Commission of its intent to surrender its existing license for the project. Natco states in its filing that it is also withdrawing its NOI to file an application for a subsequent license.

Pursuant to section 16.25(a) of the Commission's regulations, when an existing licensee, having previously filed an NOI to file a license application for a project, subsequently does not file a license application, the Commission must solicit applications from potential applicants other than the existing licensee.³

³ 18 CFR 16.25(a) (2019).

Any party interested in filing a license application or exemption (i.e., a potential applicant) for the project must file an NOI and pre-application document within 90 days from the date of this notice.⁴ While the integrated licensing process is the default process for preparing an application for a subsequent license, a potential applicant may request to use alternative licensing procedures when it files its NOI.⁵ An application for a subsequent license or exemption for the Artic Project No. 3011 must be filed within 18 months of the date of filing the NOI.

⁴ Pursuant to section 16.24(b)(2) of the Commission's regulations, the existing licensee is prohibited from filing an application for a subsequent license or exemption for the project, either individually or in conjunction with other entities. 18 CFR 16.24(b)(2) (2019).

⁵ 18 CFR 5.3(b) (2019).

Questions concerning the process for filing an NOI should be directed to John Baummer at 202-502-6837 or john.baummer@ferc.gov.

Dated: September 26, 2019.
Nathaniel J. Davis, Sr.,
Deputy Secretary.

[FR Doc. 2019-21404 Filed 10-1-19; 8:45 am]

BILLING CODE 6717-01-P